FEDERAL COMMUNICATIONS COMMISSION

47 CFR Part 79

[CG Docket No. 05-231; FCC 16-17; FRS 41603]

Closed Captioning of Video Programming; Telecommunications for the Deaf and Hard of Hearing Inc. Petition for Rulemaking

AGENCY: Federal Communications Commission.

ACTION: Correcting amendments.

SUMMARY: This document corrects the final rules portion of a Federal Register document published on August 23, 2016. That Federal Register document inadvertently removed existing rules requiring video programming distributors to exercise best efforts to obtain certifications of compliance from video programmers and requiring video programmers adopting Best Practices to certify to video programming distributors regarding adherence to Best Practices and to make those certifications widely available. That Federal Register document also prematurely amended rules to require video programmer registration and certification of compliance.

DATES:

Effective date: Effective on September 14, 2021.

Compliance date: The compliance date of section § 79.1(m) is stayed indefinitely. The Commission will publish a document in the Federal Register announcing the new compliance date.

ADDRESSES: Federal Communications Commission, 445 12th Street SW, Washington, DC 20554.

FOR FURTHER INFORMATION CONTACT: Michael Scott, Consumer and Governmental Affairs Bureau, (202) 418-1264, or email: Michael.Scott@fcc.gov.

SUPPLEMENTARY INFORMATION: This document corrects the final rules document published at 81 FR 57473, August 23, 2016.

List of Subjects in 47 CFR Part 79

Cable television operators, Communications equipment, Multichannel video programming distributors (MVPDs), Satellite television service providers.

Federal Communications Commission.
Katura Jackson,
Federal Register Liaison Officer.

Final Rules

Accordingly, 47 CFR part 79 is corrected by making the following correcting amendments:

PART 79—CLOSED CAPTIONING AND VIDEO DESCRIPTION OF VIDEO PROGRAMMING

1. The authority citation for part 79 continues to read as follows:

Authority: 47 U.S.C. 151, 152(a), 154(i), 303, 307, 309, 310, 330, 554a, 613, 617.

2. Amend § 79.1 by

a. Revising paragraph (i)(3);

b. Adding paragraph (j)(1);

c. Revising paragraphs (k)(1)(iv) and (m)(1) introductory text; and

d. Adding paragraph (m)(5).

The additions and revisions read as follows:

§ 79.1 Closed captioning of televised video programming.

* * * * *

(i) * * *

(3) Providing contact information to the Commission. (i) Prior to the compliance date of paragraph (m) of this section, video programming distributors shall file the contact information described in this section with the Commission in one of the following ways: through a web form located on the FCC website; with the Chief of the Disability Rights Office, Consumer and Governmental Affairs Bureau; or by sending an email to CLOSEDCAPTIONING_POC@fcc.gov. Contact information shall be available to consumers on the FCC website or by telephone inquiry to the Commission's Consumer Center. Distributors shall notify the Commission each time there is a change in any of this required information within 10 business days.

(ii) As of the compliance date of paragraph (m) of this section, video programming distributors and video programmers shall file contact information with the Commission through a web form located on the Commission's website. Such contact information shall include the name of a person with primary responsibility for captioning issues and ensuring compliance with the Commission's rules. In addition, such contact information shall include the person's title or office, telephone number, fax number (if the video programming distributor or video programmer has a fax number), postal mailing address, and email address. Contact information shall be available to consumers on the Commission's website or by telephone inquiry to the Commission's Consumer Center. Video programming distributors and video programmers shall notify the Commission each time there is a change in any of this required information within ten (10) business days.

(j) * * *

(1)(i) Prior to the compliance date of paragraph (m) of this section, a video programming distributor shall exercise best efforts to obtain a certification from each video programmer from which the distributor obtains programming stating:

(A) Tat the video programmer's programming satisfies the caption quality standards of paragraph (j)(2) of this section;

(B) That in the ordinary course of business, the video programmer has adopted and follows the Best Practices set forth in paragraph (k)(1) of this section; or

(C) That the video programmer is exempt from the closed captioning rules under one or more properly attained exemptions.

(ii) For programmers certifying exemption from the closed captioning rules, the video programming distributor must obtain a certification from the programmer that specifies the exact exemption that the programmer is claiming. Video programming distributors may satisfy their best efforts obligation by locating a programmer's certification on the programmer's website or other widely available locations used for the purpose of posting widely available certifications. If a video programming distributor is unable to locate such certification on the programmer's website or other widely available location used for the purpose of posting such certification, the video programming distributor must inform the video programmer in writing that it must make widely available such certification within 30 days after receiving the written request. If a video programmer does not make such certification widely available within 30 days after receiving a written request, the video programming distributor shall promptly submit a report to the Commission identifying such non-certifying video programmer for the purpose of being placed in a publicly available database. A video programming distributor that meets each of the requirements of this paragraph shall not be liable for violations of paragraphs (j)(2) and (3) of this section to the extent that any such violations are outside the control of the video programming distributor. Compliance with this paragraph (j)(1) shall not be required as of the compliance date of paragraph (m) of this section. The Commission will publish a document in the Federal Register announcing that compliance date and revising this paragraph accordingly.

* * * * *

(k) * * * (1) * * *

(iv) Certification procedures for video programmers. Video programmers adopting Best Practices will take one of the following actions to certify that they adhere to Best Practices for video programmers.

(A) Prior to the compliance date of paragraph (m) of this section, video programmers adopting Best Practices will certify to video programming distributors that they adhere to Best Practices for video programmers and will make such certifications widely available to video programming distributors, for example, by posting on affiliate websites.

(B) As of the compliance date of paragraph (m) of this section, video programmers adopting Best Practices will certify to the Commission that they adhere to Best Practices for video programmers, in accordance with paragraph (m) of this section.

* * * * *

(m) * * *

(1) On or before the compliance date, or prior to the first time a video programmer that has not previously provided video programming shown on television provides video programming for television for the first time, whichever is later, and on or before July 1 of each year thereafter, each video programmer shall submit a certification to the Commission through a web form located on the Commission's website stating that:

* * * * *

(5) Compliance with paragraphs (m)(1) through (4) of this section is not required until the Commission publishes a document in the Federal Register announcing the compliance date and revising this paragraph accordingly.

* * * * *

[FR Doc. 2021-16870 Filed 9-13-21; 8:45 am]

BILLING CODE 6712-01-P